DEPARTMENT OF THE INTERIOR

Bureau of Land Management

[AK-932-1410-ET; AA-6981]

Public Land Order No. 7560; Withdrawal of Public Lands for Haida Corporation; Alaska

AGENCY: Bureau of Land Management, Interior.

ACTION: Public land order.

SUMMARY: This order withdraws approximately 63.05 acres of public lands located within the Tongass National Forest from all forms of appropriation under the public land laws, including the mining and mineral leasing laws, pursuant to section 10(a)(1) of the Haida Land Exchange Act of 1986, as amended. Any lands selected by the Haida Corporation shall remain withdrawn until they are conveyed. Any lands described herein that are not conveyed to the corporation will remain withdrawn as part of the Tongass National Forest, and will be subject to the terms and conditions of any other withdrawal or segregation of record.

EFFECTIVE DATE: April 7, 2003.

FOR FURTHER INFORMATION CONTACT: Robbie J. Havens, Bureau of Land Management, Alaska State Office, 222 W. 7th Avenue, No. 13, Anchorage, Alaska 99513-7599, 907-271-5477.

Order

By virtue of the authority vested in the Secretary of the Interior by section 10(a)(1) of the Haida Land Exchange Act of 1986, Pub. L. No. 99-664, as amended, it is ordered as follows:

1. Subject to valid existing rights, the following described public lands are hereby withdrawn from all forms of appropriation under the public land laws, including the mining and mineral leasing laws, and are hereby reserved for selection by the Haida Corporation:

Copper River Meridian

Tongass National Forest

(a) Siginaka Islands (unsurveyed)

Twelve islands located within secs. 19, 20, 29, 30, 31 and 32 of T. 54 S., R. 63 E.

The areas described aggregate approximately 45.89 acres.

(b) Silver Point/Cobb Islands (unsurveyed).

Three islands located within sec. 18 of T. 56 S., R. 64 E.

The areas described aggregate approximately 17.16 acres.

The areas described in (a) and (b) above aggregate approximately 63.05 acres.

2. Prior to conveyance of any lands withdrawn by this order, the lands shall be subject to administration by the Department of Agriculture, Forest Service, under applicable public land laws governing the use of National Forest System land. Any lands described in this order not conveyed to the corporation, shall remain withdrawn as part of the Tongass National Forest and will be subject to the terms and conditions of any withdrawal or segregation of record.

Dated: March 11, 2003.
Rebecca W. Watson,
Assistant Secretary—Land and Minerals Management.

[FR Doc. 03-8305 Filed 4-4-03; 8:45 am]

BILLING CODE 4310-JA-P